DEPARTMENT OF THE INTERIOR

Office of the Secretary

43 CFR Part 8

[Docket No. DOI-2024-0017; 256D0102DM, DS6CS00000, DLSN00000.000000, DX6CS25]

RIN 1093-AA29

Joint Policies of the Departments of the Interior and of the Army Relative to Reservoir Project Lands; Delay of Effective Date

AGENCY: Office of the Secretary, Interior.

ACTION: Direct final rule; delay of effective date.

SUMMARY: In accordance with the memorandum of January 20, 2025, from President Donald J. Trump, entitled “Regulatory Freeze Pending Review,” this action delays the effective date of the direct final rule published on January 16, 2025, to June 16, 2025.

DATES: As of May 16, 2025, the effective date of the rule published on January 16, 2025 (90 FR 4669), delayed until May 16, 2025 (90 FR 15935), is further delayed until June 16, 2025.

FOR FURTHER INFORMATION CONTACT: Roland Springer, Acting Regional Director—Bureau of Reclamation, Interior Region 9—Columbia-Pacific Northwest, rspringer@usbr.gov; telephone at (208) 378-5006. Individuals who are deaf, deafblind, hard of hearing, or have a speech disability may dial 711 (TTY, TDD, or TeleBraille) to access telecommunications relay services. Individuals outside the United States should use the relay services offered within their country to make international calls to the point-of-contact in the United States.

SUPPLEMENTARY INFORMATION: The direct final rule, “Joint Policies of the Departments of the Interior and of the Army Relative to Reservoir Project Lands,” published on January 16, 2025, at 90 FR 4669, included a 60-day public comment period that ended on March 17, 2025. The effective date of the direct final rule was April 16, 2025. A notice to delay the effective date of the direct final rule was published in the Federal Register on April 16, 2025, at 90 FR 15935 delaying the effective date to May 16, 2025. This notice further delays the effective date to June 16, 2025. The Department of the Interior is taking this action in response to Memorandum M-25-10 of January 20, 2025, from the Executive Office of the President, Office of Management and Budget, Implementation of Regulatory Freeze, regarding the postponement of effective dates of certain published regulations. The memorandum directed the heads of Executive Departments and Agencies to consider postponing for 60 days from the date of the memorandum the effective date for any rules that have been published in the Federal Register, or any rules that have been issued in any manner but have not taken effect, for the purpose of reviewing any questions of fact, law, and policy that the rule may raise. The Department of the Interior is delaying the effective date of the direct final rule published at 90 FR 4669 to June 16, 2025.

The Department of the Interior is delaying the effective date of the direct final rule without opportunity for public comment and making the delay effective immediately, based on the good cause exemptions in 5 U.S.C. 553(b)(B) and 553(d)(3), in that seeking public comment on the delay is impracticable, unnecessary, and contrary to the public interest. The delay in effective date until June 16, 2025, is necessary to give Department officials the opportunity for further review and consideration of new regulations, consistent with the memorandum of the President, dated January 20, 2025. Given the imminence of the effective date of the direct final rule, seeking prior public comment on this delay is impractical, and contrary to the public interest in the orderly promulgation and implementation of regulations. For the foregoing reasons, the good cause exception in 5 U.S.C. 553(d)(3) also applies to the Department of the Interior's decision to make this action effective immediately.

Tyler Hassen,
Acting Assistant Secretary—Policy, Management, and Budget.

[FR Doc. 2025-08760 Filed 5-15-25; 8:45 am]

BILLING CODE 4334-CC-P